ENVIRONMENTAL PROTECTION AGENCY

[FRL-9741-4]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held November 7 and 8, 2012 at EPA's Potomac Yards Building (2777 South Crystal Drive, Arlington, VA 22202), Room 4120 North. The CHPAC was created to advise the Environmental Protection Agency on science, regulations, and other issues relating to children's environmental health.

DATES: The CHPAC will meet November 7 and 8, 2012.

ADDRESSES: 2777 South Crystal Drive, Arlington, VA 22202.

FOR FURTHER INFORMATION CONTACT: Martha Berger, Office of Children's Health Protection, USEPA, MC 1107A, 1200 Pennsylvania Avenue NW., Washington, DC 20460, (202) 564-2191 or berger.martha@epa.gov.

SUPPLEMENTARY INFORMATION: The meetings of the CHPAC are open to the public. The CHPAC will meet on Wednesday, November 7th from 9 a.m. to 5 p.m., and Thursday, November 8th from 9 a.m. to 12 p.m. Agenda items include discussions on lead and children, prenatal environmental exposures and health disparities.

Access and Accommodations: For information on access or services for individuals with disabilities, please contact Martha Berger at 202-564-2191 or berger.martha@epa.gov., preferably at least 10 days prior to the meeting.

Dated: October 4, 2012.
Martha Berger,
Designated Federal Official.

[FR Doc. 2012-25424 Filed 10-15-12; 8:45 am]

BILLING CODE 6560-50-P